SMALL BUSINESS ADMINISTRATION

[Disaster Declaration #15894 and #15895; California Disaster Number CA-00298]

Administrative Declaration Amendment of Disaster for the State of California

AGENCY: U.S. Small Business Administration.

ACTION: Amendment 1.

SUMMARY: This is an amendment of the Administrative declaration of a disaster for the State of California dated 03/21/2019.

Incident: Winter Storms and Flooding.

Incident Period: 02/25/2019 through 03/02/2019.

DATES: Issued on 05/13/2019.

Physical Loan Application Deadline Date: 05/20/2019.

Economic Injury (EIDL) Loan Application Deadline Date: 12/23/2019.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of an Administrative declaration for the State of California, dated 03/21/2019, is hereby amended to establish the incident period for this disaster as beginning 02/25/2019 and continuing through 03/02/2019.

All other information in the original declaration remains unchanged.

(Catalog of Federal Domestic Assistance Number 59008)

Christopher M. Pilkerton,
Acting Administrator.

[FR Doc. 2019-10323 Filed 5-16-19; 8:45 am]

BILLING CODE 8025-01-P